DEPARTMENT OF THE INTERIOR

Fish and Wildlife Service

50 CFR Part 17

[Docket No. FWS-R3-ES-2011-0029; 92220-1113-000; ABC Code: C6]

RIN 1018-AX57

Endangered and Threatened Wildlife and Plants; Revising the List of Endangered and Threatened Wildlife for the Gray Wolf (Canis lupus) in the Eastern United States

AGENCY: Fish and Wildlife Service, Interior.

ACTION: Proposed rule; supplementary materials.

SUMMARY: On May 5, 2011, we, the U.S. Fish and Wildlife Service, published a proposed rule to reevaluate the listing of the Minnesota population of gray wolves (Canis lupus) under the Endangered Species Act of 1973, as amended, and revise the listing to conform to current statutory and policy requirements. On August 26, 2011, we announced the reopening of the comment period for our May 5, 2011, proposed rule to provide for public review and comment of additional information regarding our recognition of C. lycaon as a separate species. We are publishing this notice to inform the public that supplementary materials are electronically available at http://www.regulations.gov.

DATES: The comment period closes on close of business September 26, 2011. Any comments that we receive after the closing date may not be considered in the final decision on this action.

ADDRESSES: Document availability: See SUPPLEMENTARY INFORMATION for information on how to access the supplementary materials.

Comment submission: You may submit comments by one of the following methods:

Electronically: Go to the Federal eRulemaking Portal: http://www.regulations.gov. In the Enter Keyword or ID box, enter FWS-R3-ES-2011-0029, which is the docket number for this rulemaking. Then, in the Search panel at the top of the screen, under the Document Type heading, click on the Proposed Rules link to locate this document. You may submit a comment by clicking on “Submit a Comment.”

By hard copy: Submit by U.S. mail or hand-delivery to: Public Comments Processing, Attn: FWS-R3-ES-2011-0029, Division of Policy and Directives Management, U.S. Fish and Wildlife Service, 4401 N. Fairfax Drive, MS 2042-PDM, Arlington, VA 22203.

We will post all comments on http://www.regulations.gov. This generally means that we will post any personal information you provide us (see the Public Comments Solicited section below for more information).

FOR FURTHER INFORMATION CONTACT: Laura Ragan, 612-713-5350. Direct all questions or requests for additional information to: Gray Wolf Questions, U.S. Fish and Wildlife Service, Ecological Services, 5600 American Blvd. West, Suite 990, Bloomington, MN 55437-1458. Additional information is also available on our Web site at http://www.fws.gov/midwest/wolf. Individuals who are hearing-impaired or speech-impaired may call the Federal Relay Service at 1-800-877-8337 for TTY assistance.

SUPPLEMENTARY INFORMATION:

Background

In the August 26, 2011, Federal Register (76 FR 53379), we announced the reopening of the comment period for our May 5, 2011, proposed rule (76 FR 26086) to provide for public review and comment of additional information regarding our recognition of the eastern wolf, Canis lycaon, as a separate species, including, in particular, a manuscript prepared by Service employees that is currently undergoing review for publication (Chambers et al., in prep.). In recognition of intellectual property right laws, the manuscript made available on August 26 provided readers with references to the sources of nine copyrighted figures, but did not include the figures themselves. We have since obtained approval to include the nine copyrighted figures in the manuscript made available for public review. On September 7, 2011, we posted the manuscript with the nine copyrighted figures at http://www.regulations.gov at Docket No. FWS-R3-ES-2011-0029 to replace the version made available on August 26.

Public Comments Solicited

We intend that any final action resulting from this proposal will be as accurate and as effective as possible. Therefore, we hereby request data, comments, new information, or suggestions from the public, other concerned governmental agencies, the scientific community, Tribes, industry, or any other interested party concerning this proposed rule. We particularly seek comments concerning:

(1) The taxonomic classification of wolves in the midwestern and northeastern United States as described in a Service manuscript prepared by Chambers et al., in particular the recognition of the eastern wolf (Canis lycaon) as a full species.

(2) Any other relevant information regarding wolves in eastern North America.

You may submit your comments and materials concerning this proposed rule by one of the methods listed in ADDRESSES. We request that you send comments only by the methods described in ADDRESSES. Comments must be submitted to http://www.regulations.gov before midnight (Eastern Daylight Time) on the date specified in DATES. All comments that were submitted during the earlier public comment period will be included as part of the administrative record for this action and need not be resubmitted.

We will post your entire comment—including your personal identifying information—on http://www.regulations.gov. If you provide personal identifying information, such as your street address, phone number, or e-mail address, you may request at the top of your document that we withhold this information from public review. However, we cannot guarantee that we will be able to do so.

Comments and materials we receive, as well as supporting documentation we used in preparing this proposed rule including the Chambers et al. manuscript (in prep), will be available for public inspection on http://www.regulations.gov at Docket No. FWS-R3-ES-2011-0029; on the Service's Internet site at http://www.fws.gov/midwest/wolf/; or by appointment, during normal business hours at the following Ecological Services offices:

• Twin Cities, Minnesota Ecological Services Field Office, 4101 American Blvd. E., Bloomington, MN; 612-725-3548.

• Green Bay, Wisconsin Ecological Services Field Office, 2661 Scott Tower Dr., New Franken, WI; 920-866-1717.

• East Lansing, Michigan Ecological Services Field Office, 2651 Coolidge Road, Suite 101, East Lansing, MI; 517-351-2555.

• New England Ecological Services Field Office, U.S. Fish and Wildlife Service, 70 Commercial St., Suite 300, Concord, NH; 603-223-2541.

Dated: September 12, 2011.
Daniel M. Ashe,
Director, U.S. Fish and Wildlife Service.

[FR Doc. 2011-23911 Filed 9-16-11; 8:45 am]

BILLING CODE 4310-55-P